FINANCIAL CRISIS INQUIRY COMMISSION

Open Meeting

AGENCY: Financial Crisis Inquiry Commission.

ACTION: Notice of open meeting.

SUMMARY: The Financial Crisis Inquiry Commission (FCIC) announces that it will hold its initial open meeting in Washington, DC. The meeting will include announcements, statements from Commissioners, and a discussion of the scope of work, work plan, and timeline of the Financial Crisis Inquiry Commission.

DATES: The open meeting will be held on Thursday, September 17, 2009, from 9 a.m. to 11:30 a.m.

ADDRESSES: The open meeting will be held in the hearing room of the Committee on House Administration, U.S. House of Representatives, 1310 Longworth House Office Building, Washington, DC 20515.

FOR FURTHER INFORMATION CONTACT: Gretchen Kinney Newsom, Office of Phil Angelides, 3001 I Street, Suite 115, Sacramento, California 95816. Fax: 310-272-1613.

SUPPLEMENTARY INFORMATION: Purpose of the Commission: The purpose of the Financial Crisis Inquiry Commission is to examine the causes, domestic and global, of the current financial and economic crisis in the United States, per the requirements of the Fraud Enforcement and Recovery Act of 2009 (“FERA”), Section 5, Public Law 111-21, 123 Stat. 1617 (2009).

Public Participation: The meeting is open to the public. The Chairman of the Commission will lead the meeting for the orderly conduct of business.

Dated: September 14, 2009.
Bill Thomas,
Vice Chairman, Financial Crisis Inquiry Commission.

[FR Doc. E9-22422 Filed 9-14-09; 4:15 pm]

BILLING CODE 6820-RK-P